ENVIRONMENTAL PROTECTION AGENCY

[EPA-HQ-OPP-2007-0409; FRL-8156-1]

The Association of American Pesticide Control Officials (AAPCO)/State FIFRA Issues Research and Evaluation Group (SFIREG); Notice of Public Meeting

AGENCY: Environmental Protection Agency (EPA).

ACTION: Notice.

SUMMARY: The Association of American Pesticide Control Officials (AAPCO)/State FIFRA Issues Research and Evaluation Group (SFIREG) will hold a 2-day meeting, beginning on December 3, 2007 and ending December 4, 2007. This notice announces the location and times for the meeting and sets forth the tentative agenda topics.

DATES: The meeting will be held on December 3, 2007 from 8:30 a.m. to 5 p.m. and 8:30 a.m. to 12 noon on December 4, 2007.

To request accommodation of a disability, please contact the person listed under FOR FURTHER INFORMATON CONTACT, preferably at least 10 days prior to the meeting, to give EPA as much time as possible to process your request.

ADDRESSES: The meeting will be held at U.S. EPA, 2777 Crystal Dr., (One Potomac Yard South), 4th Floor South Conference Center, Arlington, VA 22202.

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Grier Stayton, Executive Secretary, P.O. Box 466, Milford, DE 19963; telephone number: (302) 422-8152; fax: number (302) 422-2435; e-mail address: “grier.stayton” <aapco-sfireg@comcast.net>.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate. Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket identification (ID) number EPA-HQ-OPP-2007-0409. Publicly available docket materials are available either in the electronic docket at http://www.regulations.gov, or, if only available in hard copy, at the Office of Pesticide Programs (OPP) Regulatory Public Docket in Rm. S-4400, One Potomac Yard (South Bldg.), 2777 S. Crystal Dr., VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Tentative Agenda

1. Report on Unacceptable Label Language

2. Iodomethane Registration Decision

3. Soil Fumigant Update

4. Label Accountability Workgroup

5. Report of E-Labeling Subcommittee

6. Cause Marketing PR Notice

7. Rodenticide Cluster Review and Strychnine Issue

8. Tribal Pesticide Program Council Update

9. OPP and OECA Program Updates

10. Interaction with ASIWPCA and WQ Benchmark Setting

11. Regional Reports

12. Working Committee Reports

List of Subjects

Environmental protection.

Dated: October 29, 2007.
William R. Diamond,
Director, Field External Affairs Division, Office of Pesticide Programs.

[FR Doc. E7-21724 Filed 11-6-07; 8:45 am]

BILLING CODE 6560-50-S